SURFACE TRANSPORTATION BOARD

[Docket No. FD 36405]

Merrimack & Grafton Railroad Corporation—Change of Operators Exemption—Line of New England Southern Railroad Co.

Merrimack & Grafton Railroad Corporation (MGRC), a noncarrier, has filed a verified notice of exemption under 49 CFR 1150.31 to replace New England Southern Railroad Co. (NESR) as the operator of an approximately 73-mile railroad line (the Line) owned by the State of New Hampshire. According to MGRC, the Line extends from milepost P 21.30 at Lincoln, N.H., to milepost C 0.58 at Concord, N.H., where the Line connects with tracks owned by Pan Am Railways.

MGRC states that it is a wholly owned subsidiary of Trans Rail Holding Company (TRHC) and was formed for the purpose of becoming the new operator of the Line. According to MGRC, NESR currently provides common carrier rail operations over the Line pursuant to an Operating Agreement between NESR and the New Hampshire Department of Transportation (NHDOT). According to MGRC, on April 30, 2020, TRHC entered into an agreement to purchase some of the business assets of NESR. As part of that agreement, NESR will assign all of its rights and obligations under the Operating Agreement to MGRC, subject to NHDOT's approval, which MGRC states that it will obtain prior to the assignment.

This transaction is related to a concurrently filed verified notice of exemption in Trans Rail Holding Co.—Continuance of Control Exemption—Merrimack & Grafton Railroad, Docket No. FD 36403, in which TRHC seeks to continue in control of MGRC upon MGRC's becoming a Class III rail carrier.

MGRC certifies that the transaction does not involve any provision in any agreement that would limit future interchange with a third-party connecting carrier. MGRC certifies that its projected annual revenues as a result of this transaction will not result in its becoming a Class II or Class I rail carrier and further certifies that its projected annual revenues will not exceed $5 million. Under 49 CFR 1150.32(b), a change in operator requires that notice be given to shippers. MGRC certifies that notice of the change in operator was provided to the shippers on the Line.

The transaction may be consummated on or after June 20, 2020, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than June 12, 2020 (at least seven days before the exemption becomes effective).

All pleadings, referring to Docket No. FD 36405, must be filed with the Surface Transportation Board either via e-filing or in writing addressed to 395 E Street SW, Washington, DC 20423-0001. In addition, a copy of each pleading must be served on MGRC's representative, Thomas W. Wilcox, GKG Law, P.C., 1055 Thomas Jefferson Street NW, Suite 500, Washington, DC 20007.

According to MGRC, this action is categorically excluded from environmental review under 49 CFR 1105.6(c) and from historic preservation reporting requirements under 49 CFR 1105.8(b)(1).

Board decisions and notices are available at www.stb.gov.

Decided: June 2, 2020.
By the Board, Allison C. Davis, Director, Office of Proceedings.
Brendetta Jones,
Clearance Clerk.

[FR Doc. 2020-12228 Filed 6-4-20; 8:45 am]

BILLING CODE 4915-01-P